DEPARTMENT OF ENERGY

Federal Energy Regulatory Commission

Notice of Staff Attendance at North American Electric Reliability Corporation Joint Reliability and Security Technical Committee and Standards Committee Meetings; Standard Team Drafting Meeting; Inverter-Based Resource Performance Subcommittee Meeting; and U.S. Department of Energy's Interconnection Innovation Exchange Forum for the Implementation of Reliability Standards for Transmission Meeting

The Federal Energy Regulatory Commission hereby gives notice that members of the Commission and/or Commission staff may attend the following meetings:

North American Electric Reliability Corporation: Reliability and Security Technical Committee Meeting:

Amazon Headquarters, SEA51 Mayday Building, 1220 Howell Street, Seattle, WA 98101

June 11, 2024 | 8:00 a.m.-5:00 p.m. Pacific

Further information regarding this meeting and how to join remotely may be found at: https://www.nerc.com/comm/RSTC/AgendaHighlightsandMinutes/RSTC_Agenda_June_11_2024.pdf.

North American Electric Reliability Corporation: Standards Committee Process Subcommittee Meeting:

Amazon Headquarters, SEA51 Mayday Building, 1220 Howell Street, Seattle, WA 98101

June 11, 2024 | 12:00 p.m.-1:30 p.m. Pacific

Further information regarding this meeting and how to join remotely may be found at: https://www.nerc.com/comm/SC/Standards%20Committee%20Process%20Subcommittee%20SCPS/scps_agenda_package_june_11_2024.pdf.

North American Electric Reliability Corporation: Project Management and Oversight Subcommittee Meeting:

Amazon Headquarters, SEA51 Mayday Building, 1220 Howell Street, Seattle, WA 98101

June 11, 2024 | 2:00 p.m.-4:00 p.m. Pacific

Further information regarding this meeting and how to join remotely may be found at: https://nerc.webex.com/wbxmjs/joinservice/sites/nerc/meeting/download/63197D3E66D57F2AE0533D84FC0A2A87.

North American Electric Reliability Corporation: Reliability and Security Technical Committee Informational Session:

Amazon Headquarters, SEA51 Mayday Building, 1220 Howell Street, Seattle, WA 98101

June 12, 2024 | 8:00 a.m.-12:00 p.m. Pacific

Further information regarding this meeting and how to join remotely may be found at: https://www.nerc.com/comm/RSTC/AgendaHighlightsandMinutes/RSTC_Agenda_June_12_2024.pdf.

North American Electric Reliability Corporation: Standards Committee Meeting:

Amazon Headquarters, SEA51 Mayday Building, 1220 Howell Street, Seattle, WA 98101

June 12, 2024 | 9:00 a.m.-12:00 p.m. Pacific

Further information regarding this meeting and how to join remotely may be found at: https://www.nerc.com/comm/SC/Agenda%20Highlights%20and%20Minutes/SC_Agenda_Package_June_12_2024.pdf.

North American Electric Reliability Corporation: Joint Reliability and Security Technical Committee and Standards Committee Informational Session:

Amazon Headquarters, SEA51 Mayday Building, 1220 Howell Street, Seattle, WA 98101

June 12, 2024 | 1:30 p.m.-4:30 p.m. Pacific

Further information regarding this meeting and how to join remotely may be found at: https://www.nerc.com/comm/RSTC/AgendaHighlightsandMinutes/Joint_RSTC_SC_Agenda_Package_June_12_2024.pdf.

North American Electric Reliability Corporation: Project 2021-04 Modifications to PRC-002—Phase II Standard Drafting Team Meeting:

NERC DC Office, 1401 H St. NW, Suite 410, Conference Room 419, Washington, DC 20005

June 20, 2024 | 10:00 a.m.-5:00 p.m. Eastern

June 21, 2024 | 8:30 a.m.-12:00 p.m. Eastern

Further information regarding this meeting and how to join remotely may be found at: https://www.nerc.com/pa/Stand/Lists/stand/DispForm.aspx?ID=2363.

North American Electric Reliability Corporation: Inverter-Based Resource Performance Subcommittee Meeting, WebEx

June 20, 2024 | 1:00 p.m.-4:00 p.m. Eastern

Further information regarding this meeting and how to join remotely may be found at: https://www.nerc.com/pa/RAPA/Lists/RAPA/DispForm.aspx?ID=657.

U.S. Department of Energy's (DOE) Interconnection Innovation e-Xchange (i2X) Forum for the Implementation of Reliability Standards for Transmission (FIRST) Meeting, Zoom:

June 25, 2024 | 11:00 a.m.-1:00 p.m. Eastern

Further information regarding this meeting and how to register may be found at: https://www.zoomgov.com/meeting/register/vJItceuorTsiErIC-HInpPbWuTUtrYQAuoM#/registration.

The discussions at the meetings, which are open to the public, may address matters at issue in the following Commission proceedings:

Docket No. RR24-2-000—North American Electric Reliability Corporation

For further information, please contact Leigh Anne Faugust (202) 502-6396 or leigh.faugust@ferc.gov.

Dated: June 5, 2024.
Debbie-Anne A. Reese,
Acting Secretary.

[FR Doc. 2024-12753 Filed 6-10-24; 8:45 am]

BILLING CODE 6717-01-P